DEPARTMENT OF THE INTERIOR

Bureau of Land Management

[LLNV952000; L14400000.BJ0000; 6100.241A; LXSSF2210000; TAS:234.MO #4500167422]

Filing of Plats of Survey; Nevada

AGENCY: Bureau of Land Management, Interior.

ACTION: Notice.

SUMMARY: The purpose of this notice is to inform the public and interested State and local government officials of the filing of Plats of Survey in Nevada.

DATES: Filing is applicable at 10 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described land was officially filed at the Bureau of Land Management (BLM) Nevada State Office, Reno, Nevada, on August 2, 2022.

The plat, in 12 sheets, representing the dependent resurvey of the south, east and west boundaries, the subdivisional lines and portions of certain mineral surveys, Township 25 South, Range 58 East, Mount Diablo Meridian, Nevada, under Group No. 891, was accepted July 27, 2022. This survey was executed to meet certain administrative needs of the Bureau of Land Management.

2. The Plat of Survey of the following described lands was officially filed at the Bureau of Land Management (BLM) Nevada State Office, Reno, Nevada, on August 02, 2022.

The plat, in 14 sheets, representing the dependent resurvey of the Sixth Standard Parallel South, through Range 58 East, and a portion of Range 57 East; portions of the east boundary, the west and north boundaries, a portion of the subdivisional lines and portions of certain mineral surveys, Township 24 South, Range 58 East, Mount Diablo Meridian, Nevada, under Group No. 887, was accepted July 27, 2022. This survey was executed to meet certain administrative needs of the Bureau of Land Management.

3. The Plat of Survey of the following described land lands was officially filed at the Bureau of Land Management (BLM) Nevada State Office, Reno, Nevada, on August 04, 2022.

The plat, in one sheet, representing the dependent resurvey of a portion of the subdivisional lines, and the subdivision of section 31, Township 24 South, Range 59 East, Mount Diablo Meridian, Nevada, under Group No. 954, was accepted August 3, 2022. This survey was executed to meet certain administrative needs of the Bureau of Land Management.

4. The Plat of Survey of the following described lands was officially filed at the Bureau of Land Management (BLM) Nevada State Office, Reno, Nevada, on August 04, 2022.

The plat, in one sheet, representing the dependent resurvey of the Sixth Standard Parallel South, through portions of Ranges 58 and 59 East, and a portion of the subdivisional lines, and the subdivision of section 6, Township 25 South, Range 59 East, Mount Diablo Meridian, Nevada, under Group No. 954, was accepted August 3, 2022. This survey was executed to meet certain administrative needs of the Bureau of Land Management.

5. The Plat of Survey of the following described lands was officially filed at the Bureau of Land Management (BLM) Nevada State Office, Reno, Nevada, on August 08, 2022.

The plat, in one sheet, representing the dependent resurvey of a portion of the south boundary, a portion of the subdivision-of-section lines of section 34 and portions of a metes-and-bounds survey of a portion of the northerly right-of-way of Lake Mead Parkway (drive), and metes-and-bounds surveys of a portion of the easterly and westerly lines of Bureau of Land Management Right-of-Way Reservation N-73903, Township 21 South, Range 63 East, Mount Diablo Meridian, Nevada, under Group No. 962, was accepted August 5, 2022. This survey was executed to meet certain administrative needs of the Bureau of Land Management.

6. The Plat of Survey of the following described lands was officially filed at the Bureau of Land Management (BLM) Nevada State Office, Reno, Nevada, on August 25, 2022.

The plat, in one sheet, representing the dependent resurvey of a portion of the subdivisional lines, and the subdivision of section 36, Township 24 North, Range 23 East, Mount Diablo Meridian, Nevada, under Group No. 991, was accepted August 9, 2022. This survey was executed to meet certain administrative needs of the Bureau of Land Management and the Bureau of Indian Affairs.

7. The Plat of Survey of the following described lands was officially filed at the Bureau of Land Management (BLM) Nevada State Office, Reno, Nevada, on August 25, 2022.

The plat, in one sheet, representing the dependent resurvey of a portion of the south boundary of Township 24 North, Range 23 East, a portion of the east boundary and portions of the subdivisional lines, Township 23 North, Range 23 East, Mount Diablo Meridian, Nevada, under Group No. 991, was accepted August 9, 2022. This survey was executed to meet certain administrative needs of the Bureau of Land Management and the Bureau of Indian Affairs.

8. The Supplemental Plat of Survey of the following described lands was officially filed at the Bureau of Land Management (BLM) Nevada State Office, Reno, Nevada, on August 25, 2022.

This supplemental plat, in one sheet, showing additional lotting in the NE1/4NE1/4 of section 27, Township 24 North, Range 23 East, Mount Diablo Meridian, Nevada, under Group No. 1001, was accepted August 22, 2022. This survey was executed to meet certain administrative needs of the Bureau of Land Management and the Bureau of Indian Affairs.

9. The Plat of Survey of the following described lands was officially filed at the Bureau of Land Management (BLM) Nevada State Office, Reno, Nevada, on September 12, 2022.

The plat, in one sheet, representing the dependent resurvey of a portion of the Pyramid Lake Indian Reservation boundary, a portion of the south boundary of Township 22 North, Range 24 East, a portion of the subdivisional lines, and portion of the subdivision-of-section lines of sections 23 and 26, Township 21 North, Range 24 East, Mount Diablo Meridian, Nevada, under Group No. 995, was accepted September 7, 2022. This survey was executed to meet certain administrative needs of the Bureau of Land Management and the Bureau of Indian Affairs.

The surveys, listed above, are now the basic record for describing the lands for all authorized purposes. These records have been placed in the open files in the BLM Nevada State Office and are available to the public as a matter of information.

(Authority: 43 U.S.C. chapter 3.)

Dated: October 21, 2022.
Michael Harmening,
Chief Cadastral Surveyor for Nevada.

[FR Doc. 2022-23424 Filed 10-26-22; 8:45 am]

BILLING CODE 4310-HC-P